DEPARTMENT OF TRANSPORTATION

Office of the Secretary

49 CFR Part 10

[Docket No. OST-2014-0142]

RIN 2105-AE36

Maintenance of and Access to Records Pertaining to Individuals

AGENCY: Office of the Secretary (OST), U.S. Department of Transportation (DOT).

ACTION: Final rule.

SUMMARY: On October 2, 2014, the Department published an interim final rule requesting comment to conform the DOT's regulations on Maintenance of and Access to Records Pertaining to Individuals to the applicable System of Records Notices (SORNs) and current DOT practice. No comments were received in response to the interim final rule. As a result, this document confirms that the October 2, 2014, interim final rule will not be changed, and its effective date is October 2, 2014.

DATES: Effective June 5, 2015.

FOR FURTHER INFORMATION CONTACT: Claire Barrett, Departmental Chief Privacy Officer, Office of the Chief Information Officer, U.S. Department of Transportation, 1200 New Jersey Avenue SE., Washington, DC 20590 or claire.barrett@dot.gov or (202) 366-8135.

SUPPLEMENTARY INFORMATION: As the Department received no comments on its interim final rule published on October 2, 2014, we are making no changes to the rule and its effective date is October 2, 2014. For regulatory analyses and notices associated with this action, please see the interim final rule published at 79 FR 59448.

PART 10—MAINTENANCE OF AND ACCESS TO RECORDS PERTAINING TO INDIVIDUALS

Accordingly, the interim rule amending 49 CFR part 10 which was published at 79 FR 59448 on October 2, 2014, is adopted as a final rule without change.

Issued in Washington, DC, on May 19, 2015, under authority delegated in 49 CFR 1.27(c).
Kathryn B. Thomson,
General Counsel.

[FR Doc. 2015-13760 Filed 6-4-15; 8:45 am]

BILLING CODE 4910-9X-P